DEPARTMENT OF VETERANS AFFAIRS

Scientific Review and Evaluation Board for Health Services Research and Development Service, Notice of Meeting

The Department of Veterans Affairs (VA) gives notice under Public Law 92-463 (Federal Advisory Committee Act) that a meeting of the Scientific Review and Evaluation Board for Health Services Research and Development Service will be held at the Safety Harbor Resort, 105 North Bay Shore Drive, Safety Harbor, Tampa, FL 34695, from January 22-24, 2003. The Nursing Research Initiative (NRI) review will convene on January 22, 2003, from 8 a.m.-1 p.m. The Investigator Initiated Research (IIR) review will convene from 1 p.m. until 5 p.m. and 7 p.m. until 9 p.m. on January 22, 2003, from 8 a.m. until 5 p.m. on January 23, 2003, and from 8 a.m. until 5 p.m. on January 24, 2003.

The purpose of the meeting is to review research and development applications concerned with the measurement and evaluation of health care services and with testing new methods of health care delivery and management, and nursing research. Applications are reviewed for scientific and technical merit. Recommendations regarding funding are prepared for the Chief Research and Development Officer.

The Investigator Initiated Research review meeting will be open to the public on January 22 for approximately one half-hour from 7 p.m. until 7:30 p.m. to cover administrative matters and to discuss the general status of the program. The closed portion of the meeting involves discussion, examination, reference to, and oral review of staff and consultant critiques of research protocols and similar documents. During this portion of the meeting, discussion and recommendations will include qualifications of the personnel conducting the studies (the disclosure of which would constitute a clearly unwarranted invasion of personal privacy), as well as research information (the premature disclosure of which would be likely to frustrate significantly the implementation of proposed agency action regarding such research projects). As provided by the subsection 10(d) of Public Law 92-463, as amended by Public Law 94-409, closing portions of these meetings is in accordance with 5 U.S.C. 552b(c)(6) and (9)(B).

Those who plan to attend the open session should contact the Assistant Director, Scientific Review (124F), Health Services Research and Development Service, Department of Veterans Affairs, 1400 Eye Street, NW., Suite 780, Washington, DC, at least five days before the meeting. For further information, call (202) 408-3661.

Dated: November 19, 2002.
By Director of the Secretary.
Nora E. Egan,
Committee Management Officer.

[FR Doc. 02-30194 Filed 11-27-02; 8:45 am]

BILLING CODE 8320-01-M